DEPARTMENT OF THE TREASURY

Office of the Comptroller of the Currency

12 CFR Chapter I

[Docket ID OCC-2023-0016]

FEDERAL RESERVE SYSTEM

12 CFR Chapter II

[Docket No. OP-1828]

FEDERAL DEPOSIT INSURANCE CORPORATION

12 CFR Chapter III

RIN 3064-ZA39

Regulatory Publication and Review Under the Economic Growth and Regulatory Paperwork Reduction Act of 1996

AGENCY: Office of the Comptroller of the Currency (OCC), Treasury; Board of Governors of the Federal Reserve System (Board); Federal Deposit Insurance Corporation (FDIC).

ACTION: Notice of regulatory review; request for comments.

SUMMARY: Pursuant to the Economic Growth and Regulatory Paperwork Reduction Act of 1996 (EGRPRA), the OCC, Board, and FDIC (collectively, the agencies) are reviewing agency regulations to identify outdated or otherwise unnecessary regulatory requirements on insured depository institutions and their holding companies. The agencies divided their regulations into 12 categories outlined in the included chart. Over the next two years, the agencies will publish four Federal Register documents requesting comment on multiple categories. This first Federal Register document requests comment on regulations concerning the following three categories: Applications and Reporting, Powers and Activities, and International Operations.

DATES: Written comments must be received no later than May 6, 2024.

ADDRESSES: Comments should be directed to: OCC: Commenters are encouraged to submit comments through the Federal eRulemaking Portal. Please use the title “Regulatory Publication and Review Under the Economic Growth and Regulatory Paperwork Reduction Act of 1996” to facilitate the organization and distribution of the comments. You may submit comments by any of the following methods:

• Federal eRulemaking Portal—Regulations.gov: Go to https://regulations.gov/. Enter “Docket ID OCC-2023-0016” in the Search Box and click “Search.” Public comments can be submitted via the “Comment” box below the displayed document information or by clicking on the document title and then clicking the “Comment” box on the top-left side of the screen. For help with submitting effective comments, please click on “Commenter's Checklist.” For assistance with the Regulations.gov site, please call 1-866-498-2945 (toll free) Monday-Friday, 9 a.m.-5 p.m. ET, or email regulationshelpdesk@gsa.gov.

• Mail: Chief Counsel's Office, Attention: Comment Processing, Office of the Comptroller of the Currency, 400 7th Street SW, Suite 3E-218, Washington, DC 20219.

• Hand Delivery/Courier: 400 7th Street, SW, Suite 3E-218, Washington, DC 20219.

Instructions: You must include “OCC” as the agency name and “Docket ID OCC-2023-0016” in your comment. In general, the OCC will enter all comments received into the docket and publish the comments on the Regulations.gov website without change, including any business or personal information provided such as name and address information, email addresses, or phone numbers. Comments received, including attachments and other supporting materials, are part of the public record and subject to public disclosure. Do not include any information in your comment or supporting materials that you consider confidential or inappropriate for public disclosure.

You may review comments and other related materials that pertain to this action by the following method:

• Viewing Comments Electronically—Regulations.gov: Go to https://regulations.gov/. Enter “Docket ID OCC-2023-0016” in the Search Box and click “Search.” Click on the “Dockets” tab and then the document's title. After clicking the document's title, click the “Browse All Comments” tab. Comments can be viewed and filtered by clicking on the “Sort By” drop-down on the right side of the screen or the “Refine Comments Results” options on the left side of the screen. Supporting materials can be viewed by clicking on the “Browse Documents” tab. Click on the “Sort By” drop-down on the right side of the screen or the “Refine Results” options on the left side of the screen checking the “Supporting & Related Material” checkbox. For assistance with the Regulations.gov site, please call 1-866-498-2945 (toll free) Monday-Friday, 9am-5pm ET, or email regulationshelpdesk@gsa.gov.

The docket may be viewed after the close of the comment period in the same manner as during the comment period.

Board: You may submit comments, identified by Docket No. OP-1828 by any of the following methods:

• Agency Website: https://www.federalreserve.gov. Follow the instructions for submitting comments at https://www.federalreserve.gov/generalinfo/foia/ProposedRegs.cfm.

• Federal eRulemaking Portal: https://www.regulations.gov. Follow the instructions for submitting comments.

• Email: regs.comments@federalreserve.gov. Include the docket number in the subject line of the message.

• Fax: 202-452-3819 or 202-452-3102.

• Mail: Ann E. Misback, Secretary, Board of Governors of the Federal Reserve System, 20th Street and Constitution Avenue NW, Washington, DC 20551.

Public Inspection: In general, all public comments will be made available on the Board's website at www.federalreserve.gov/generalinfo/foia/ProposedRegs.cfm as submitted, and will not be modified to remove confidential, contact or any identifiable information. Public comments may also be viewed electronically or in paper in Room M-4365A, 2001 C Street NW, Washington, DC 20551, between 9:00 a.m. and 5:00 p.m. during Federal business weekdays. For security reasons, the Board requires that visitors make an appointment to inspect comments by calling (202) 452-3684. Upon arrival, visitors will be required to present valid government-issued photo identification and to submit to security screening in order to inspect and photocopy comments. For users of TTY-TRS, please call 711 from any telephone, anywhere in the United States.

FDIC: The FDIC encourages interested parties to submit written comments. Please include your name, affiliation, address, email address, and telephone number(s) in your comment. You may submit comments to the FDIC, identified by “EGRPRA” in the subject line of your message by any of the following methods:

• Agency Website: https://www.fdic.gov/resources/regulations/federal-register-publications/. Follow instructions for submitting comments on the FDIC's website.

• Mail: James P. Sheesley, Assistant Executive Secretary, Attention: Comments/Legal OES (EGRPRA), Federal Deposit Insurance Corporation, 550 17th Street NW, Washington, DC 20429.

• Hand Delivery/Courier: Comments may be hand-delivered to the guard station at the rear of the 550 17th Street NW, building (located on F Street NW) on business days between 7:00 a.m. and 5:00 p.m. ET.

• Email: comments@FDIC.gov. Include “EGRPRA” in the subject line of the message.

Public Inspection: Comments received, including any personal information provided, may be posted without change to https://www.fdic.gov/resources/regulations/federal-register-publications/. Commenters should submit only information that the commenter wishes to make available publicly. The FDIC may review, redact, or refrain from posting all or any portion of any comment that it may deem to be inappropriate for publication, such as irrelevant or obscene material. The FDIC may post only a single representative example of identical or substantially identical comments, and in such cases will generally identify the number of identical or substantially identical comments represented by the posted example. All comments that have been redacted, as well as those that have not been posted, that contain comments on the merits of this notice will be retained in the public comment file and will be considered as required under all applicable laws. All comments may be accessible under the Freedom of Information Act.

FOR FURTHER INFORMATION CONTACT:

OCC: Allison Hester-Haddad, Special Counsel, Daniel Amodeo, Counsel, or John Cooper, Counsel, Chief Counsel's Office (202) 649-5490, Office of the Comptroller of the Currency, 400 7th Street SW, Washington DC 20219. If you are deaf, hard of hearing, or have a speech disability, please dial 7-1-1 to access telecommunications relay services.

Board: Katie Ballintine, Assistant Director, (202) 452-2555, Maria Jovanovic, Senior Financial Institution Policy Analyst II, (202) 475-6327, and Colton Hamming, Financial Institution Policy Analyst II, (202) 452-3932, Division of Supervision and Regulation; Mandie Aubrey, Senior Counsel, (202) 452-2595, Division of Consumer and Community Affairs; Dafina Stewart, Assistant General Counsel, (202) 452-2677 and David Cohen, Senior Attorney, (202) 452-5259, Legal Division, Board of Governors of the Federal Reserve System, 20th Street and Constitution Avenue NW, Washington, DC 20551. For users of TTY-TRS, please call 711 from any telephone, anywhere in the United States.

FDIC: Karen J. Currie, Chief, Policy & Program Development Section, (202) 898-3981, Division of Risk Management Supervision; or William Piervincenzi, Supervisory Counsel, (202) 898-6957, Legal Division.

SUPPLEMENTARY INFORMATION:

I. Introduction

Congress enacted Section 2222 of EGRPRA ¹ to reduce regulatory burden imposed upon insured depository institutions consistent with safety and soundness, to promote consistency between the agencies' regulations, and to support consumer protection. The statute requires that not less frequently than once every 10 years, the Federal Financial Institutions Examination Council (FFIEC),² along with the agencies,³ conduct a review of their regulations to identify outdated or otherwise unnecessary regulatory requirements imposed on insured depository institutions. In conducting this review, the FFIEC or the agencies shall (a) categorize their regulations by type and (b) at regular intervals, provide notice and solicit public comment on categories of regulations, requesting commenters to identify areas of regulations that are outdated, unnecessary, or unduly burdensome.⁴

¹ 12 U.S.C. 3311.

² The FFIEC is an interagency body empowered to prescribe uniform principles, standards, and report forms for the Federal examination of financial institutions and to make recommendations to promote uniformity in the supervision of financial institutions. The FFIEC does not issue regulations that impose burden on financial institutions and, therefore, we have not separately captioned the FFIEC in this notice.

³ The FFIEC is comprised of the OCC, Board, FDIC, National Credit Union Administration (NCUA), Consumer Financial Protection Bureau (CFPB), and State Liaison Committee. Of these, only the OCC, Board, and FDIC are statutorily required to undertake the EGRPRA review. The NCUA elected to participate in the first and second EGRPRA reviews, and the NCUA Board again has elected to participate in this review process.

Consistent with its approach during the first and second EGRPRA reviews, NCUA will separately issue notices and requests for comment on its rules. The CFPB is required to review its significant rules and publish a report of its review no later than five years after they take effect. See 12 U.S.C. 5512(d). This process is separate from the EGRPRA process.

⁴ Insured depository institutions are also subject to regulations that are not reviewed under the EGRPRA process because they were not prescribed by the agencies. Examples include rules for which rulemaking authority was transferred to the CFPB and anti-money laundering regulations issued by the Department of the Treasury's Financial Crimes Enforcement Network, among others. If, during the EGRPRA process, the agencies receive a comment about a regulation that is not subject to the EGRPRA review, we will forward that comment to the appropriate agency.

EGRPRA also requires the FFIEC or the agencies to publish in the Federal Register a summary of the comments received, identifying significant issues raised and commenting on these issues. It also directs the agencies to eliminate unnecessary regulations to the extent that such action is appropriate. Finally, the statute requires the FFIEC to submit to Congress a report that summarizes any significant issues raised in the public comments and the relative merits of those issues. The report also must include an analysis of whether the agencies are able to address the regulatory burdens associated with such issues or whether these burdens must be addressed by legislative action.

II. The EGRPRA Review's Targeted Focus

The EGRPRA regulatory review provides an opportunity for the public and the agencies to look at groups of related regulations and to identify opportunities for burden reduction.⁵ For example, the EGRPRA review may facilitate the identification of statutes and regulations that share similar goals or complementary methods where one or more agencies could eliminate the overlapping regulatory requirements. Alternatively, commenters may identify regulations or statutes that impose requirements that are no longer consistent with the way business is conducted and may warrant revision or elimination.

⁵ See supra note 1.

The EGRPRA review also provides the agencies and the public with an opportunity to consider how to reduce the impact on community banks or their holding companies. The agencies are aware of the role that these institutions play in providing consumers and businesses across the nation with essential financial services and access to credit. The agencies are especially concerned about the impact of requirements on these smaller institutions. The agencies understand that when a new regulation is issued or a current regulation amended, smaller institutions may have to devote a significant amount of their resources to determine if and how the regulation will affect them. Through the public comment process, the EGRPRA review can help the agencies identify and target regulatory changes to reduce impacts on these smaller institutions.

Burden reduction must be compatible with consumer protection, the safety and soundness of insured depository institutions, their affiliates, and the financial system as a whole. Burden reduction also must be consistent with the agencies' statutory mandates, many of which require the issuance of regulations. EGRPRA recognizes that effective burden reduction may require statutory changes. Accordingly, as part of this review, we specifically ask the public to comment on the relationship among burden reduction, regulatory requirements, policy objectives, and statutory mandates. We also seek quantitative data about the impact of rules, where available.

We note that the agencies must consider regulatory burden each time an agency proposes, adopts, or amends a rule. For example, under the Paperwork Reduction Act of 1995 ⁶ and the Regulatory Flexibility Act,⁷ the agencies assess each rulemaking with respect to the burdens the rule might impose. The agencies also invite the public to comment on proposed rules as required by the Administrative Procedure Act.⁸

⁶ 44 U.S.C. 3501-3521.

⁷ 5 U.S.C. 610.

⁸ 5 U.S.C. 551-559.

III. The EGRPRA Review Process

Taken together for purposes of EGRPRA, the agencies' regulations covering insured depository institutions encompass more than 100 subjects.⁹ Consistent with the EGRPRA statute and past practice, the agencies have grouped these regulations into the following 12 categories listed in alphabetical order: Applications and Reporting; Banking Operations; Capital; Community Reinvestment Act; Consumer Protection; ¹⁰ Directors, Officers and Employees; International Operations; Money Laundering; Powers and Activities; Rules of Procedure; Safety and Soundness; and Securities. These categories were used during the prior EGRPRA reviews. The agencies determined the categories by sorting the regulations by type and sought to have no category be too large or broad. These categories remain useful for the review, and the agencies have not modified the categories for purposes of this review.

⁹ Consistent with EGRPRA's focus on reducing burden on insured depository institutions, the agencies have not included their internal, organizational, or operational regulations in this review. These regulations impose minimal, if any, burden on insured depository institutions.

¹⁰ The agencies are seeking comment only on consumer protection regulations for which they retain rulemaking authority for insured depository institutions and holding companies under the Dodd-Frank Wall Street Reform and Consumer Protection Act, Public Law 111-203, 124 Stat. 1376 (2010) (Dodd-Frank Act).

Over the next two years, the agencies plan to publish four Federal Register notices, each addressing one or more categories of rules. Each Federal Register notice will have a 90-day comment period. Today, the agencies are publishing the first of the four notices, addressing the following categories of regulations: Applications and Reporting; Powers and Activities; and International Operations. The agencies invite the public to identify outdated, unnecessary, or unduly burdensome regulatory requirements imposed on insured depository institutions and their holding companies in these three categories.

To assist the public's understanding of how the agencies have organized the EGRPRA review, the agencies have prepared a chart that lists the categories of regulations with the three categories of regulations addressed in this Federal Register notice appearing as the first three categories in the chart. The chart's left column divides the categories into specific subject-matter areas. The headings at the top of the chart identify the types of institutions affected by the regulations.

The agencies will review the comments received and determine whether further action is appropriate with respect to the regulations. The agencies will consult and coordinate with each other and expect to generally make this determination jointly, as appropriate, in the case of rules that have been issued on an interagency basis. Similarly, as appropriate, the agencies will undertake any rulemaking to amend or repeal those rules on an interagency basis. For rules issued by a single agency, the issuing agency will review the comments received and independently determine whether amendments to or repeal of its rules are appropriate.

IV. Request for Comments on the First Three Categories of Regulations: Applications and Reporting, Powers and Activities, and International Operations

The agencies are requesting comment on regulations in three specific categories to identify outdated, unnecessary, or unduly burdensome requirements imposed on insured depository institutions and their holding companies. The agencies will solicit comment on all rules finalized by the agencies before the publication of the last EGRPRA notice in the series. In addition to comments on regulations in the first three categories generally, the agencies are requesting comments on certain specific regulations described below within the first three categories issued since the last EGRPRA review. Where possible, the agencies ask commenters to cite to specific regulatory language or provisions. The agencies also welcome suggested alternative provisions or language in support of a comment, where appropriate. The agencies will consider comments submitted anonymously.

Specific Issues for Commenters To Consider

The agencies specifically invite comment on the following issues as they pertain to the agencies' Applications and Reporting, Powers and Activities, and International Operations rules addressed in this notice. We will ask these same questions for each notice we issue in connection with the EGRPRA process.

• Need and purpose of the regulations.

○ Question 1: Have there been changes in the financial services industry, consumer behavior, or other circumstances that cause any regulations in these categories to be outdated, unnecessary, or unduly burdensome? If so, please identify the regulations, provide any available quantitative analyses or data, and indicate how the regulations should be amended.

○ Question 2: Do any of these regulations impose burdens not required by their underlying statutes? If so, please identify the regulations and indicate how they should be amended.

• Overarching approaches/flexibilities.

○ Question 3: With respect to the regulations in these categories, could an agency use a different regulatory approach to lessen the burden imposed by the regulations and achieve statutory intent?

○ Question 3: Do any of these rules impose unnecessarily inflexible requirements? If so, please identify the regulations and indicate how they should be amended.

• Cumulative effects.

○ Question 4: Looking at the regulations in a category as a whole, are there any requirements that are redundant, inconsistent, or overlapping in such a way that taken together, impose an unnecessary burden that could potentially be addressed? If so, please identify those regulations, provide any available quantitative analyses or data, and indicate how the regulations should be amended.

• Effect on competition.

○ Question 5: Do any of the regulations in these categories create competitive disadvantages for one part of the financial services industry compared to another or for one type of insured depository institution compared to another? If so, please identify the regulations and indicate how they should be amended.

• Reporting, recordkeeping, and disclosure requirements.

○ Question 6: Do any of the regulations in these categories impose outdated, unnecessary, or unduly burdensome reporting, recordkeeping, or disclosure requirements on insured depository institutions or their holding companies?

○ Question 7: Could an insured depository institution or its holding company fulfill any of these requirements through new technologies (if they are not already permitted to do so) and experience a burden reduction? If so, please identify the regulations and indicate how they should be amended.

• Unique characteristics of a type of institution.

○ Question 8: Do any of the regulations in these categories impose requirements that are unwarranted by the unique characteristics of a particular type of insured depository institution or holding company? If so, please identify the regulations and indicate how they should be amended.

• Clarity.

○ Question 9: Are the regulations in these categories clear and easy to understand?

○ Question 10: Are there specific regulations for which clarification is needed? If so, please identify the regulations and indicate how they should be amended.

• Impact to community banks and other small, insured depository institutions.

○ Question 11: Are there regulations in these categories that impose outdated, unnecessary, or unduly burdensome requirements on a substantial number of community banks, their holding companies, or other small, insured depository institutions or holding companies?

○ Question 12: Have the agencies issued regulations pursuant to a common statute that, as applied by the agencies, create redundancies or impose inconsistent requirements?

○ Question 13: Should any of these regulations issued pursuant to a common statute be amended or repealed to minimize this impact? If so, please identify the regulations and indicate how they should be amended.

○ Question 14: Have the effects of any regulations in these categories changed over time that now have a significant economic impact on a substantial number of small, insured depository institutions or holding companies? If so, please identify the regulations and indicate how they should be amended. The agencies seek information on (1) the continued need for the rule; (2) the complexity of the rule; (3) the extent to which the rule overlaps, duplicates or conflicts with other Federal rules, and, to the extent feasible, with State and local governmental rules; and (4) the degree to which technology, economic conditions, or other factors have changed in the area affected by the rule.

• Scope of rules.

○ Question 15: Is the scope of each rule in these categories consistent with the intent of the underlying statute(s)?

○ Questions 16: Could the agencies amend the scope of a rule to clarify its applicability or reduce the burden, while remaining faithful to statutory intent? If so, please identify the regulations and indicate how they should be amended.

Specific Interagency Regulations Issued Since the Last EGRPRA Review

• Expanded Examination Cycle for U.S. Branches and Agencies of Foreign Banks. In December 2018, the agencies expanded the number of insured depository institutions and U.S. branches and agencies of foreign banks eligible for an 18-month on-site examination cycle. As authorized by the Economic Growth, Regulatory Relief, and Consumer Protection Act (EGRRCPA),¹¹ the agencies' final rules generally allow qualifying insured depository institutions with less than $3 billion in total assets to benefit from an extended 18-month on-site examination cycle. The rules also make parallel changes to the agencies' regulations governing the on-site examination cycle for U.S. branches and agencies of foreign banks.

¹¹ See Economic Growth, Regulatory Relief, and Consumer Protection Act, Public Law 115-174, 132 Stat. 1296 (2018).

• Reduced Reporting for Covered Depository Institutions. In June 2019, the agencies established a reduced reporting requirement for certain covered depository institutions.¹²

¹² 84 FR 29050 (Jun. 21, 2019).

• Margin and Capital Requirements for Covered Swap Entities. The agencies have issued and modified provisions related to margin and capital requirements for covered swap entities since the last EGRPRA review.¹³

¹³ 80 FR 74839 (Nov. 30, 2015); 83 FR 50805 (Oct. 10, 2018); 84 FR 9940 (Mar. 19, 2019); 85 FR 39464 (Jul. 1, 2020); 85 FR 39754 (Aug. 31, 2020).

• Amendments to the Regulations Implementing Section 13 of the Bank Holding Company Act Regarding Proprietary Trading and Relationships with Covered Funds. In July 2020, the agencies adopted amendments to the regulations implementing Section 13 of the Bank Holding Company Act (BHC Act),¹⁴ also known as the Volcker Rule. The amendments continued efforts in 2014, when the agencies amended the regulations in a manner consistent with certain sections of the EGRRCPA.¹⁵ Section 13 of the BHC Act contains certain restrictions on the ability of a banking entity or nonbank financial company supervised by the Board to engage in proprietary trading and have certain interests in, or relationships with, a hedge fund or private equity fund (covered funds). The amendments were intended to improve and streamline the regulations implementing Section 13 of the BHC Act by modifying and clarifying requirements related to the covered fund provisions of the rules and to be consistent with EGRRCPA.

¹⁴ 12 U.S.C. 1851.

¹⁵ See EGRRCPA sections 203, 204. These provisions were effective upon EGRRCPA's enactment.

• Computer-Security Incident Notification Requirements. In November 2021, the agencies established notification requirements related to computer-security incidents that may adversely affect insured depository institutions.¹⁶

¹⁶ 86 FR 66424 (Nov. 23, 2021).

Specific OCC Regulations Issued Since the Last EGRPRA Review

• Integration of Applications and Reporting rules and Powers and Activities rules for Federal Savings Associations and National Banks. In December 2020, to the extent appropriate and consistent with statutory charter differences, the OCC integrated its Applications and Reporting rules (the majority of which are included in the OCC's licensing rules contained in 12 CFR part 5) for national banks and Federal savings associations.¹⁷ Similarly, in December 2020, to the extent appropriate and consistent with statutory charter differences, the OCC integrated its Powers and Activities rules (which are contained in 12 CFR part 7) for national banks and Federal savings association.¹⁸

¹⁷ 85 FR 80404 (Dec. 11, 2020). The OCC initially integrated its licensing rules for national banks and Federal savings associations in 2015. 80 FR 28345 (May 18, 2015).

¹⁸ 85 FR 83686 (Dec. 22, 2020).

• Question 17: Are there additional rules that could be integrated, amended, or removed?

• Covered Savings Associations Provisions. In 2019, as required by the EGRRCPA,¹⁹ the OCC established standards and procedures for Federal savings associations that elected to operate as a covered savings association under Section 5a of the Home Owners' Loan Act.²⁰

¹⁹ 12 U.S.C. 1464a.

²⁰ 84 FR 23991 (May 24, 2019).

Specific Board Regulations Issued Since the Last EGRPRA Review

• Modified Capital Planning Requirements for Certain Holding Companies. In 2021, the Board adopted a final rule to modify the requirements in the Board's capital plan rule for firms with assets of $100 billion or more.²¹ Among other changes, this rule modified regulatory reporting requirements for Large Bank Holding Companies, Intermediate Holding Companies, and Savings and Loan Holding Companies.

²¹ 86 FR 7927 (Feb. 3, 2021).

Specific FDIC Regulations Issued Since the Last EGRPRA Review

• Transferred Regulations from the Office of Thrift Supervision (OTS). Pursuant to Section 316(b) of the Dodd-Frank Act, rules transferred from the OTS to the FDIC and other successor agencies remain in effect “until modified, terminated, set aside, or superseded in accordance with applicable law” by the relevant successor agency, by a court of competent jurisdiction, or by operation of law. When the FDIC republished the transferred OTS regulations as new FDIC regulations applicable to state savings associations, the FDIC stated in its Federal Register notice that its staff would evaluate the transferred OTS rules and might later recommend incorporating the transferred OTS regulations into other FDIC rules, amending them, or rescinding them. This process began in 2013 and continues, involving publication in the Federal Register of a series of notices of proposed rulemakings and final rulemakings.²² As of the date of this notice, only two of the transferred OTS regulations remain. The FDIC will consider public comments submitted either through the EGRPRA review process or through any notice and comment rulemaking related to the FDIC's determinations regarding the transferred OTS regulations.

²² Final rulemakings include: 78 FR 76721 (Dec. 19, 2013); 79 FR 42182 (Jul. 21, 2014); 79 FR 42183 (Jul. 21, 2014); 79 FR 63498 (Oct. 24, 2014); 80 FR 5009 (Jan. 30, 2015); 80 FR 5015 (Jan. 30, 2015); 80 FR 65612 (Oct. 27, 2015); 80 FR 65903 (Oct. 28, 2015); 80 FR 65913 (Oct. 28, 2015); 80 FR 79250 (Dec. 21, 2015); 83 FR 13839 (Apr. 2, 2018); 83 FR 13843 (Apr. 2, 2018); 83 FR 60333 (Nov. 26, 2018); 84 FR 31171 (Jul. 1, 2019); 84 FR 65276 (Nov. 27, 2019); 85 FR 3232 (Jan. 21, 2020); 85 FR 3247 (Jan. 21, 2020); 85 FR 3250 (Jan. 21, 2020); 86 FR 8082 (Feb. 3, 2021); 86 FR 8089 (Feb. 3, 2021); 86 FR 8098 (Feb. 3, 2021).

• Amendments to International Banking Regulations (Part 347). In March 2020, the FDIC revised its existing international banking regulations (contained in 12 CFR part 347) to replace references to credit ratings in the definition of investment grade with an alternative standard of creditworthiness and to make changes to the eligibility criteria for the types of assets that insured branches of foreign banks may pledge for the benefit of the FDIC.

• Incorporation of Existing Statement of Policy Regarding Requests for Participation in the Affairs of an Insured Depository Institution by Convicted Individuals. In August 2020, the FDIC revised its existing regulations pertaining to Section 19 of the FDI Act ²³ (contained in 12 CFR parts 303 and 308) regarding the FDIC's procedures and standards relating to applications for the FDIC's written consent and to incorporate and revise the FDIC's existing Statement of Policy for Section 19 of the FDI Act (SOP). The incorporation of the SOP into the FDIC's regulations was intended to make the application of the SOP more transparent, increase certainty concerning the FDIC's application process, afford regulatory relief, and help both insured depository institutions and affected individuals to understand the impact of Section 19 and to potentially seek relief from it.²⁴

²³ 12 U.S.C. 1829.

²⁴ On December 23, 2022, the President signed into law the Fair Hiring in Banking Act (FHBA), which significantly revised Section 19 and was effective immediately. The FHBA appears at Section 5705 of the James M. Inhofe National Defense Authorization Act for Fiscal Year 2023, Pub. L. 117-263, 136 Stat. 2395, 3411 (2022). The FDIC is working on a proposal to amend its Section 19 regulations under 12 CFR parts 303 and 308 to conform with the FHBA.

• Rule Regarding Parent Companies of Industrial Banks and Industrial Loan Companies (Part 354). In February 2021, the FDIC adopted a final rule (contained in 12 CFR part 354) that requires certain conditions and commitments for each deposit insurance application approval, non-objection to a change in control notice, and merger application approval that would result in an insured industrial bank or industrial loan company becoming, on or after the effective date of the final rule, a subsidiary of a company that is not subject to consolidated supervision by the Board. The final rule also requires that before any industrial bank or industrial loan company may become a subsidiary of a company that is not subject to consolidated supervision by the Board, such company and the industrial bank or industrial loan company must enter into one or more written agreements with the FDIC.

V. The Agencies' Review of Regulations Under Section 610 of the Regulatory Flexibility Act (RFA)

Consistent with past practice, the [agencies] will use the EGRPRA review to satisfy their respective obligations under Section 610 of the RFA.²⁵ To that end, for each rule that has a significant impact on a substantial number of small entities issued in the last 10 years, the [agencies] invite comment on (1) the continued need for the rule; (2) the complexity of the rule; (3) the extent to which the rule overlaps, duplicates or conflicts with other Federal rules, and, to the extent feasible, with State and local governmental rules; and (4) the length of time since the rule has been evaluated or the degree to which technology, economic conditions, or other factors have changed in the area affected by the rule. The purpose of the review will be to determine whether such rules should be continued without change, or should be amended or rescinded, consistent with the stated objectives of applicable statutes, to minimize any significant economic impact of the rules upon a substantial number of such small entities.

²⁵ Section 610 of the Regulatory Flexibility Act, 5 U.S.C. 610, imposes a continuing obligation on the agencies to review regulations that may have a significant economic impact upon a substantial number of small entities, within 10 years after a final rulemaking is published. A subset of the rules the agencies will review under EGRPRA will also be reviewed under the Section 610 review criteria. The agencies will indicate which rules are subject to Section 610 review. The factors the agencies consider in evaluating a rule under 5 U.S.C. 610 are (1) the continued need for the rule; (2) the nature of complaints or comments received concerning the rule from the public; (3) the complexity of the rule; (4) the extent to which the rule overlaps, duplicates or conflicts with other Federal rules, and, to the extent feasible, with State and local governmental rules; and (5) the length of time since the rule has been evaluated or the degree to which technology, economic conditions, or other factors have changed in the area affected by the rule.

The agencies have not identified any rules pertaining to Applications and Reporting, Powers and Activities, and International Operations that would have a significant impact on a substantial number of small entities. The agencies will consider public comments submitted through the EGRPRA review process and agency experience to identify regulations where the agencies can reduce burdens that have a significant impact on a substantial number of small, insured depository institutions.²⁶

²⁶ The review will be consistent with the requirements of a Regulatory Flexibility Act, Section 610 review. The [agencies] will determine whether particular rules should be continued without change, amended, or rescinded, consistent with the objectives of applicable statutes, to minimize any significant economic impact of the rules on a substantial number of small, insured depository institutions.

BILLING CODE 4810-33-; 6210-01-; 6714-01-P

Michael J. Hsu,
Acting Comptroller of the Currency.
By order of the Board of Governors of the Federal Reserve System.
Ann E. Misback,
Secretary of the Board.
Federal Deposit Insurance Corporation.
By order of the Board of Directors.
Dated at Washington, DC, on January 16, 2024.
James P. Sheesley,
Assistant Executive Secretary.

[FR Doc. 2024-02016 Filed 2-5-24; 8:45 am]

BILLING CODE 4810-33-; 6210-01; 6714-01-C